DEPARTMENT OF HEALTH AND HUMAN SERVICES

Centers for Disease Control and Prevention

[60Day-02-35]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Survey of Dentists to Obtain Information that will Improve the Reporting of Oral and Pharyngeal Cancers—New—National Center for Chronic Disease Prevention and Health Promotion (NCCDPHP), Centers for Disease Control and Prevention (CDC).

Legislation in most States requires the collection of incidence and mortality data on all types of cancers to identify cancer control needs and to track progress in reducing cancer incidence and deaths. These data include the counting of cancer cases as well as basic medical information about these cases such as the stage of the tumors at time of diagnosis. The goal of this project is to help the States of West Virginia and South Carolina to improve the accuracy, completeness and timeliness of oral and pharyngeal cancer data in their Central Cancer Registries. Oral and pharyngeal cancer is the focus of this project because it is suspected that many cases of these cancers are currently undercounted and the quality of available data is in need of improvement. In addition, oral and pharyngeal cancers have very poor 5-year survival (less than 50%), yet most are preventable. Therefore, control of oral and pharyngeal cancer is an important public health goal of these State Health Departments. These improved data will better meet the State's own legal mandate of cancer surveillance as part of the State public health infrastructure, and assist in the planning and evaluation of oral and pharyngeal cancer control efforts.

While cancer registries routinely receive pathology reports of tumor diagnoses, it is possible that for some cases of oral and pharyngeal cancer, the pathology specimens are sent to special pathology labs associated with dental schools, or to out-of-state laboratories. To ascertain these under-utilized pathology reporting sources, a simple survey will be sent to dental health providers (mostly dentists and oral surgeons). All such providers will be surveyed in West Virginia, while a sample of providers will be surveyed in South Carolina. The survey will ask if oral cancer screening is performed in the practice, if suspicious lesions are biopsied in the practice, and if not, to which specialists are referrals made. If the practice performs biopsies of oral lesions, the name and address of the pathology laboratory will be requested. These laboratories will be informed of their responsibility to report newly diagnosed tumors to the State Central Cancer Registry. There are no costs to respondents.

Respondents | Number of respondents | Number of responses per respondent | Average burden of response (in hours) | Total burden (in hours)
Dentist and Oral Surgeons | 1600 | 1 | 12/60 | 320
Total |  |  |  | 320

Dated: March 18, 2002.
Nancy Cheal,
Acting Associate Director for Policy, Planning and Evaluation, Centers for Disease Control and Prevention.

[FR Doc. 02-7277 Filed 3-26-02; 8:45 am]

BILLING CODE 4163-18-P